DEPARTMENT OF ENERGY

Federal Energy Regulatory Commission

[P-13123-002-CA]

Eagle Mountain Pumped Storage Hydroelectric Project, Eagle Crest Energy; Notice of Cancellation of Teleconference

On March 15, 2011, the Commission issued public notice of a teleconference scheduled to occur on Friday, April 15, 2011 at 9 a.m. (Pacific Time). The teleconference was scheduled as part of our on-going Section 7 Endangered Species Act consultation efforts with the U.S. Fish and Wildlife Service for the proposed Eagle Mountain Pumped Storage Hydroelectric Project. This meeting has been cancelled.

We will reschedule this meeting in the near future and provide public notice.

Dated: April 13, 2011.
Nathaniel J. Davis, Sr.,
Deputy Secretary.

[FR Doc. 2011-9658 Filed 4-20-11; 8:45 am]

BILLING CODE 6717-01-P